DEPARTMENT OF THE INTERIOR

National Park Service

Notice of Reopening of Comment Period

AGENCY: National Park Service, Interior.

ACTION: Notice of reopening of comment period.

SUMMARY: On April 7, 2000 the National Park Service (NPS) published in the Federal Register for notice and comment Director's Order #47 on Soundscape Preservation and Noise Management. The notice provided for a comment period ending on May 8, 2000. In response to the request from Congressman Hansen, Chairman of the Subcommittee on National Parks and Public Lands, to extend the comment period for 30 days, the National Park Service determined that the comment period should be reopened for this extended period. This reopening of the comment period will allow the National Park Service to consider comments received after May 8, 2000, the date it was initially closed.

DATES: The comment period for the notice of Director's Order #47 which was published on April 7, 2000 at 65 FR 18350 is reopened until August 18, 2000.

ADDRESSES: Draft Director's Order #47 is available on the Internet at http://www.nps.gov/refdesk/DOrders/index.htm. Requests for copies and written comments should be sent to Dr.Wes Henry, National Park Service, Ranger Activities Division, 1849 C Street, NW., Room 7418, Washington, D.C. 20240.

FOR FURTHER INFORMATION CONTACT: Dr. Wes Henry at 202/208-5211 or Dr. William Schmidt at 202/501-9269.

Maureen Finnerty,
Associate Director, Park Operations and Education.

[FR Doc. 00-19955 Filed 8-7-00; 8:45 am]

BILLING CODE 4310-70-P